DEPARTMENT OF LABOR

Employment and Training Administration

[TA-W-55,567]

Honeywell Video Systems, Falls Church, VA; Notice of Termination of Investigation

Pursuant to section 221 of the Trade Act of 1974, as amended, an investigation was initiated on September 8, 2004, in response to a petition filed by a company official on behalf of workers at Honeywell Video Systems, Falls Church, Virginia.

The petitioning group of workers is covered by an earlier petition instituted on September 3, 2004 (TA-W-55,553), that is the subject of an ongoing investigation for which a determination has not yet been issued. Further investigation in this case would duplicate efforts and serve no purpose; therefore the investigation under this petition has been terminated.

Signed in Washington, DC this 14th day of September, 2004.
Richard Church,
Certifying Officer, Division of Trade Adjustment Assistance.

[FR Doc. E4-2337 Filed 9-22-04; 8:45 am]

BILLING CODE 4510-30-P